Title 3—

The President

Proclamation 9750 of May 18, 2018

National Safe Boating Week, 2018

By the President of the United States of America

A Proclamation

As summer approaches, Americans across the country will begin to enjoy time out on the water with their families and friends. Whether fishing, watching beautiful sunsets, learning how to navigate, or continuing family traditions, boating promises fun and lasting memories. Realizing the joy of boating, however, requires that we follow safe boating practices. During National Safe Boating Week, I urge all Americans to prepare for boating activities by becoming familiar with proper safety procedures.

Americans should take precautionary actions to ensure that everyone makes it home unharmed after fun on the water. Inspecting your boat thoroughly and participating in a free vessel safety check offered through the Coast Guard can help ensure both you and your boat are ready for the water. A pre-departure checklist can help remind you to monitor the weather and bring required equipment, and filing a float plan with a reliable person helps ensure that the Coast Guard is notified if you do not return as planned. Boaters should also wear life jackets and make sure there is always someone onboard who is unimpaired and capable of operating the boat. The Coast Guard and its Federal, State, and local partners estimate that avoiding alcohol and wearing a life jacket can prevent more than 80 percent of boating fatalities.

In recognition of the importance of safe boating practices, the Congress, by joint resolution approved June 4, 1958 (36 U.S.C. 131), as amended, has authorized and requested the President to proclaim annually the 7-day period before Memorial Day weekend as “National Safe Boating Week.”

NOW, THEREFORE, I, DONALD J. TRUMP, President of the United States of America, do hereby proclaim May 19 through May 25, 2018, as National Safe Boating Week. I encourage all Americans who participate in boating activities to observe this occasion by learning more about safe boating practices and taking advantage of boating safety education opportunities. I also encourage the Governors of the States and Territories, and appropriate officials of all units of government, to join me in encouraging boating safety through events and activities.

IN WITNESS WHEREOF, I have hereunto set my hand this eighteenth day of May, in the year of our Lord two thousand eighteen, and of the Independence of the United States of America the two hundred and forty-second.

[FR Doc. 2018-11368

Filed 5-23-18; 11:15 am]

Billing code 3295-F8-P